DEPARTMENT OF HOMELAND SECURITY

Federal Emergency Management Agency

44 CFR Part 64

[Docket No. FEMA-7778]

List of Communities Eligible for the Sale of Flood Insurance

AGENCY: Federal Emergency Management Agency, Emergency Preparedness and Response Directorate, Department of Homeland Security.

ACTION: Final rule.

SUMMARY: This rule identifies communities participating in the National Flood Insurance Program (NFIP) and suspended from the NFIP. These communities have applied to the program and have agreed to enact certain floodplain management measures. The communities' participation in the program authorizes the sale of flood insurance to owners of property located in the communities listed.

DATES: Effective Dates: The dates listed under the column headed Effective Date of Eligibility.

ADDRESSES: Flood insurance policies for property located in the communities listed can be obtained from any licensed property insurance agent or broker serving the eligible community or from the NFIP at: (800) 638-6620.

FOR FURTHER INFORMATION CONTACT: Michael M. Grimm, Mitigation Division, 500 C Street, SW.; Room 412, Washington, DC 20472, (202) 646-2878.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or federally related financial assistance for acquisition or construction of buildings in the special flood hazard areas shown on the map.

The Administrator finds that delayed effective dates would be contrary to the public interest and that notice and public procedure under 5 U.S.C. 553(b) are impracticable and unnecessary.

National Environmental Policy Act. This rule is categorically excluded from the requirements of 44 CFR Part 10, Environmental Considerations. No environmental impact assessment has been prepared.

Regulatory Flexibility Act. The Administrator certifies that this rule will not have a significant economic impact on a substantial number of small entities in accordance with the Regulatory Flexibility Act, 5 U. S. C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State and location | Community No. | Effective date of eligibility | Current effective map date
New Eligibles—Emergency Program
Nebraska:
Maywood, Village of, Frontier County | 310085 | January 4, 2005 | December 20, 1974.
Florida:
Otter Creek, Town of, Levy County | 120592 | February 8, 2005 | August 17, 1979.
North Carolina:
Yanceyville, Town of, Caswell County | 370641 | ......do | Use Caswell County FHBM dated February 3, 1978.
Kansas:
Osage County, Unincorporated Areas | 200601 | February 11, 2005 | FHBM dated August 9, 1977.
New Mexico:
Curry County, Unincorporated Areas | 350127 | ......do | FHBM dated February 7, 1978.
Arkansas:
Rosston, City of, Nevada County | 050475 | March 2, 2005 | February 18, 1977.
Texas:
Devers, City of, Liberty County | 481514 | March 14, 2005 | April 24, 1979.
New Eligibles—Regular Program
Texas:
**Fannin County, Unincorporated Areas | 480807 | January 4, 2005 | FHBM dated November 8, 1977, converted to FIRM by letter January 4, 2005.
Nebraska:
St. Paul, City of, Howard County | 310119 | January 21, 2005 | October 19, 2004.
Kansas:
**Protection, City of, Comanche County | 200550 | February 1, 2005 | FHBM dated July 2, 1976, converted to FIRM by letter February 1, 2005.
**Neosho County, Unincorporated Areas | 200598 | ......do | FHBM dated November 1, 1977, converted to FIRM by letter February 1, 2005.
Alaska:
Haines Borough, Unincorporated Areas | 020007 | February 2, 2005 | August 22, 1975.
Kentucky:
Laurel County, Unincorporated Areas | 210134 | February 8, 2005 | November 2, 1990.
Ohio:
Forest Park, City of, Hamilton County | 390216 | February 9, 2005 | Use Hamilton County (CID 390204) FIRM panels 0065D, 0070D, 0086D, and 0088D dated May 14, 2004.
Frazeysburg, Village of, Muskingum County | 390426 | ......do | NSFHA.
Wisconsin:
Bellevue, Village of, Brown County | 550627 | ......do | Use Brown County (CID 550020) panels 0125B and 0150B dated February 19, 1982.
Missouri:
Seymour, City of, Webster County | 290933 | February 11, 2005 | July 17, 2002.
Rhode Island:
Narragansett Indian Tribe, Washington County | 445414 | February 14, 2005 | Use Charlestown, Town of (CID 445395) FIRM panels 0005E and 0010E dated September 30, 1995, and panels 0015C and 0020C dated July 16, 1986.
Georgia:
Jeff Davis County, Unincorporated Areas | 130113 | ......do | September 6, 1996.
Maine:
**Alna, Town of, Lincoln County | 230083 | March 1, 2005 | FHBM dated January 3, 1975, converted to FIRM by letter March 1, 2005.
Alabama:
Good Hope, Town of, Cullman County | 010437 | ......do | December 2, 2004.
Kansas:
**Burdett, City of, Pawnee County | 200396 | ......do | FHBM dated March 26, 1976, converted to FIRM by letter March 1, 2005.
**Marion County, Unincorporated Areas | 200593 | ......do | FHBM dated August 22, 1978, converted to FIRM by letter March 1, 2005.
Ohio:
Berkey, Village of, Lucas County | 390901 | March 8, 2005 | Use Lucas County (CID 390359) FIRM panels 0035D and 0050D dated October 6, 2000.
Missouri:
**Edmundson, City of, St. Louis County. | 290729 | March 10, 2005 | Use St. Louis County (CID 290327) FIRM panel 0176H dated August 2, 1995.
Arkansas:
Gentry, City of, Benton County | 050324 | March 11, 2005 | Use Benton County (CID 050419) FIRM panel 0125E dated September 18, 1991.
New Mexico:
Elephant Butte, City of, Sierra County | 350136 | March 17, 2005 | Use Sierra County (CID 350071) FIRM panel 0485C dated July 16, 1996.
Indiana:
McCordsville, Town of, Hancock County | 180468 | March 18, 2005 | Use Hancock County (CID 180419) FIRM panel 0025B dated October 15, 1982.
Florida:
Polk City, Town of, Polk County | 120665 | March 22, 2005 | November 19, 2003.
Reinstatements
Minnesota:
Greenwood, City of, Hennepin County | 270164 | January 31, 2005 | September 2, 2004.
Shorewood, City of, Hennepin County | 270185 | ......do | Do.
St. Anthony, City of, Hennepin County and Ramsey County | 270716 | March 4, 2004 | Do.
Alabama:
Alexander City, City of, Tallapoosa County | 010210 | March 15, 2005 | September 27, 1985.
Withdrawals
Suspensions
North Carolina:
Orrum, Town of, Robeson County | 370349 | March 11, 1997, Emerg March 11, 1997, Reg February 22, 2005, Susp | January 19, 2005.
Arkansas:
Caldwell, Town of, St. Francis County | 050185 | May 28, 1975, Emerg October 19, 1982, Reg February 23, 2005, Susp | February 18, 2005.
St. Francis County, Unincorporated Areas | 050184 | September 4, 1979, Emerg November 1, 1985, Reg February 23, 2005, Susp | Do.
Suspension Rescissions
Region III
Delaware:
Bethany Beach, Town of, Sussex County | 105083 | January 18, 2005 Suspension Notice Rescinded | January 6, 2005.
Dewey Beach, Town of, Sussex County | 100056 | ......do | Do.
South Bethany, Town of, Sussex County | 100051 | ......do | Do.
Region V
Ohio:
Brookville, City of, Montgomery County | 390407 | ......do | Do.
Dayton, City of, Montgomery County | 390409 | ......do | Do.
Miamisburg, City of, Montgomery County | 390413 | ......do | Do.
Trotwood, City of, Montgomery County | 390417 | ......do | Do.
Region VII
Kansas:
Manhattan, City of, Riley County and Pottawatomie County | 200300 | February 4, 2005 Suspension Notice Rescinded | February 4, 2005.
Ogden, City of, Riley County | 200301 | ......do | Do.
Riley County, Unincorporated Areas | 200298 | ......do | Do.
Nebraska:
Battle Creek, City of, Madison County | 310145 | ......do | Do.
Madison County, Unincorporated Areas | 310455 | ......do | Do.
Region IV
Florida:
Islamorada, Village of, Monroe County | 120424 | February 18, 2005 Suspension Notice Rescinded | February 18, 2005.
Marathon, City of, Monroe County | 120681 | ......do | Do.
North Carolina:
Lumberton, City of, Robeson County | 370203 | ......do | January 19, 2005.
Region VI
Arkansas:
Forrest City, City of, St. Francis County | 050187 | ......do | February 18, 2005.
Hughes, City of, St. Francis County | 050188 | ......do | Do.
Palestine, City of, St. Francis County | 050359 | ......do | Do.
Wheatley, City of, St. Francis County | 050374 | ......do | Do.
Region VII
Missouri:
Callaway County, Unincorporated Areas | 290049 | ......do | Do.
Fulton, City of, Callaway County | 290051 | ......do | Do.
Jefferson, City of, Callaway County and Cole County | 290108 | ......do | Do.
Region IV
Kentucky:
Magoffin County, Unincorporated Areas | 210158 | March 16, 2005 Suspension Notice Rescinded | March 16, 2005.
Salyersville, City of, Magoffin County | 210159 | ......do | Do.
*-do- and Do. = ditto
**Designates communities converted from Emergency Phase of participation to the Regular Phase of participation.
Code for reading fourth and fifth columns: Emerg.—Emergency; Reg.—Regular; Rein.—Reinstatement; Susp.—Suspension; With.—Withdrawn; NSFHA—Non Special Flood Hazard Area.

(Catalog of Federal Domestic Assistance No. 83.100, “Flood Insurance.”)

Dated: June 21, 2005.
David I. Maurstad,
Acting Director, Mitigation Division, Emergency Preparedness and Response Directorate.

[FR Doc. 05-12679 Filed 6-27-05; 8:45 am]

BILLING CODE 9110-12-P